DEPARTMENT OF ENERGY

Federal Energy Regulatory Commission

[Docket Nos. EC06-93-000, et al.]

Southern California Edison Company, et al.; Electric Rate and Corporate Filings

March 17, 2006.

The following filings have been made with the Commission. The filings are listed in ascending order within each docket classification.

1. Southern California Edison Company

[Docket No. EC06-93-000]

On March 10, 2006, Southern California Edison Company (SCE) submitted an application pursuant to section 203 of the Federal Power Act for authorization of the purchase by SCE from the City of Anaheim, California (Anaheim) of Anaheim's 3.16 percent undivided interests as tenants in common in Units 2 and 3 of the San Onofre Nuclear Generating Station (SONGS), a nuclear power plant with a total capacity of 2,150 MW located in San Diego County, California. Anaheim's interest in SONGS represents 68 MW.

Comment Date: 5 p.m. eastern time on April 3, 2006.

2. Devon Power LLC, Montville Power LLC, Norwalk Power LLC, Middletown Power LLC

[Docket No. ER04-23-016]

Take notice on March 3, 2006, Devon Power LLC, Montville Power LLC, Norwalk Power LLC, and Middletown Power LLC, (NRG Companies), filed its Settlement Cost-of-Service Agreement, among the NRG Companies, NRG Power Marketing, Inc. and ISO New England, Inc., and its final reconciliation schedule.

Comment Date: 5 p.m. eastern time on March 24, 2006.

3. Midwest Independent Transmission System Operator, Inc.

[Docket No. ER05-1475-004]

Take notice that on March 14, 2006, Midwest Independent Transmission System Operator, Inc. (Midwest ISO) filed a revision to its March 8, 2006 compliance filing, correcting a revised tariff sheet to its Large Generator Interconnection Agreement.

Comment Date: 5 p.m. eastern time on March 29, 2006.

4. Midwest Independent Transmission System Operator, Inc.

[Docket No. ER06-731-000]

Take notice that on March 10, 2006, Midwest Independent Transmission System Operator, Inc. filed a Request for Extension of Board Constrained Area Mitigation provisions contained in Module D of its Open Access Transmission and Energy Markets Tariff, pursuant to the Commission's Order issued on November 8, 2004.

Comment Date: 5 p.m. eastern time on March 31, 2006.

5. Midland Cogeneration Venture Limited Partnership

[Docket No. ER06-733-000]

Take notice that on March 15, 2006 Midland Cogeneration Venture Limited Partnership filed an application for order accepting its initial market-based rate tariff and granting certain waivers and blanket approval, pursuant to section 205 of the Federal Power Act and Part 35 of the Commission's Regulations.

Comment Date: 5 p.m. eastern time on April 5, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4240 Filed 3-23-06; 8:45 am]

BILLING CODE 6717-01-P